DEPARTMENT OF AGRICULTURE

Forest Service

Notice of Meeting; Southwest Oregon Provincial Advisory Committee

AGENCY: Forest Service, USDA.

ACTION: Notice of Meeting; Southwest Oregon Provincial Advisory Committee.

SUMMARY: The Southwest Oregon Provincial Advisory Committee will meet on Tuesday, September 21, 2004 for (1) Updates from working groups; (2) a presentation from the Coquille Indian Tribe; (3) an update on the BLM Resource Plan revision; (4) an update on Interagency Fire Management Plans; (5) an update from National Fire Plan and Cascade-Siskiyou National Monument Livestock study work groups and (6) a Northern Spotted Owl Five Year Review. The meeting will be held at the Coos Bay Bureau of Land Management Office. It begins at 9 a.m., ends at 5 p.m., and the open public forum begins at 11:30 a.m. with a 4-minute limitation per individual presentation. Written comments may be submitted prior to the meeting and delivered to Designated Federal Official, Scott Conroy at the Rogue River-Siskiyou National Forest, PO Box 520, Medford, OR 97501.

FOR FURTHER INFORMATION CONTACT: Rogue River-Siskiyou National Forest Acting Public Affairs Officer Virginia Gibbons at (541) 858-2214, e-mail: vgibbons@fs.fed.us, or USDA Forest Service, PO Box 520, 333 West 8th Street, Medford, OR 97501.

Dated: August 27, 2004.
Nancy Rose,
Acting Forest Supervisor, Rogue River-Siskiyou National Forest.

[FR Doc. 04-20009 Filed 9-1-04; 8:45 am]

BILLING CODE 3410-11-M